DEPARTMENT OF ENERGY

Federal Energy Regulatory Commission

[Project No. 4678-053; Project No. 4679-050]

New York Power Authority; Notice of Applications Tendered for Filing With the Commission and Establishing Procedural Schedule for Licensing and Deadline for Submission of Final Amendments

Take notice that the following hydroelectric applications have been filed with the Commission and are available for public inspection.

a. Type of Applications: New Major Licenses.

b. Project Nos.: 4678-053 and 4679-050.

c. Date Filed: May 25, 2022.

d. Applicant: New York Power Authority (NYPA).

e. Names of Projects: Crescent and Vischer Ferry Hydroelectric Projects.

f. Location: The Crescent Projects is located on the Mohawk River in Saratoga, Albany, and Schenectady Counties, New York. The Vischer Ferry Project is located on the Mohawk River in Saratoga and Schenectady Counties, New York The projects do not occupy any federal or Tribal lands.

g. Filed Pursuant to: Federal Power Act, 16 U.S.C. 791(a)-825(r).

h. Applicant Contact: Rob Daly, Director of Licensing, NYPA, 123 Main Street, White Plains, NY 10601; Telephone: (914) 681-6564 or Rob.Daly@nypa.gov.

i. FERC Contact: Jody Callihan at (202) 502-8278, or jody.callihan@ferc.gov.

j. The applications are not ready for environmental analysis at this time.

k. Project Descriptions:

Crescent Project

The Crescent Project consists of: (1) Crescent Dam, which includes two main concrete gravity overflow sections that are 901 feet long, 52 feet high (eastern section) and 534 feet long, 32 feet high (western section), and a smaller 16-foot-high, 530-foot-long dam located immediately downstream of the main western dam; (2) an impoundment with an area of 2,108 acres and gross storage capacity of 50,000 acre-feet at an elevation of 184 feet Barge Canal Datum (BCD) (1-foot-high flashboards seasonally installed during the navigation season add 2,000 acre-feet of storage); (3) a regulating structure consisting of an 8-foot-wide sluiceway and a 30-foot-wide Tainter gate; (4) a brick and concrete powerhouse that is 73 feet wide, 180 feet long, and contains two Francis turbine-generator units rated at 2.8 megawatts (MW) each and two vertical Kaplan turbine-generator units rated at 3.0 MW each; (5) navigation lock E-6 of the Erie Canal and Guard Gates 1 and 2 of the Waterford Flight; (6) a switchyard; (7) generator leads and transformer banks; and (8) appurtenant facilities.

Vischer Ferry Project

The Vischer Ferry Project consists of: (1) The Vischer Ferry Dam, a concrete gravity structure composed of three connected spillway sections with a total length of 1,919 feet, the outer ogee-shaped weir sections having an average height of 30 feet and the middle broad-crested weir sections with a height varying from 1 foot to 3 feet; (2) an impoundment with an area of 1,137 acres and gross storage capacity of 25,000 acre-feet at an elevation of 211 feet BCD (27-inch-high flashboards seasonally installed during the navigation season add 2,400 acre-feet of storage); (3) a low-level regulating structure at the northern end of the spillway with four sluice gates; (4) a headrace with a longitudinal retaining wall containing the sluice gates; (5) a brick and concrete powerhouse that is 73 feet wide, 186 feet long, and contains two Francis turbine-generator units rated at 2.8 MW each and two vertical Kaplan turbine-generator units rated at 3.0 MW each; (6) an unlined 65-foot-long, 150-foot-wide tailrace; (7) navigation lock E-7 of the Erie Canal; (8) an earthen embankment located to the west of Lock E-7; (9) a switchyard; (10) generator leads and transformer banks; and (11) appurtenant facilities.

Both projects are operated in a run-of-river mode such that outflow from each project approximates inflow, and the impoundments are maintained within 6 inches of the dam crest (or top of the flashboards, when installed). Year-round minimum flows of 100 cubic feet per second (cfs) and 200 cfs are provided at the Crescent and Vischer Ferry Projects, respectively. During the navigation season (typically mid-May through mid-October), the minimum flows are provided as part of the fish passage flows that are released through notches in each project's flashboards; during the remainder of the year (non-navigation season), the minimum flows are typically provided as part of generation flows. An acoustic deterrent system is seasonally deployed upstream of each project, from May through October, to guide blueback herring that are migrating downstream towards non-turbine routes of passage (the notches in the flashboards through which the fish passage flows are provided). Average annual generation at the Crescent and Vischer Ferry Projects was 58,250 MW-hours and 56,323 MW-hours, respectively, across years 2012-2021. NYPA is not proposing any new project facilities or changes to the operation of the projects at this time.

l. Copies of the applications can be viewed on the Commission's website at http://www.ferc.gov, using the “eLibrary” link. Enter the docket number, excluding the last three digits in the docket number field, to access the document (P-4678 or P-4679). For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The applications will be processed according to the following preliminary schedule. Revisions to the schedule will be made as appropriate.

Milestone | Target date
Issue Deficiency Letter (if necessary) | June 2022.
Request Additional Information (if necessary) | July 2022.
Notice of Acceptance/Notice of Ready for Environmental Analysis | October 2022.
Filing of recommendations, preliminary terms and conditions, and preliminary fishway prescriptions | December 2022.

o. Final amendments to the application must be filed with the Commission no later than 30 days from the issuance date of the notice of ready for environmental analysis.

Dated: June 2, 2022.
Debbie-Anne A. Reese,
Deputy Secretary.

[FR Doc. 2022-12333 Filed 6-7-22; 8:45 am]

BILLING CODE 6717-01-P